DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the program in general, contact Lisa L. Reyes, Acting Clerk, United States Court of Federal Claims, 717 Madison Place NW., Washington, DC 20005, (202) 357-6400. For information on HRSA's role in the program, contact the Director, National Vaccine Injury Compensation Program, 5600 Fishers Lane, Room 08N146B, Rockville, MD 20857; (301) 443-6593, or visit our Web site at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2017, through July 31, 2017. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the program.

Dated: August 28, 2017.
George Sigounas,
Administrator.

List of Petitions Filed

1. Houston Byrd, Jr., Heath, Ohio, Court of Federal Claims No: 17-0900V

2. Jacquelyn M. Will, Milwaukee, Wisconsin, Court of Federal Claims No: 17-0904V

3. Christine Midnight, Albuquerque, New Mexico, Court of Federal Claims No: 17-0905V

4. Beth Nemechek, Greeley, Colorado, Court of Federal Claims No: 17-0907V

5. Patricia Woolf, Cheyenne, Wyoming, Court of Federal Claims No: 17-0908V

6. Marie Schmidt, Naperville, Illinois, Court of Federal Claims No: 17-0913V

7. Richard K. Parker, Richmond, Virginia, Court of Federal Claims No: 17-0917V

8. Ronald Skrajner, Aurora, Ohio, Court of Federal Claims No: 17-0918V

9. Anita Javorski, Mankato, Minnesota, Court of Federal Claims No: 17-0919V

10. Jose Solis Marin, Washington, District of Columbia, Court of Federal Claims No: 17-0920V

11. Lavell Maize, Boston, Massachusetts, Court of Federal Claims No: 17-0921V

12. Ronald Patrick, Stuart, Florida, Court of Federal Claims No: 17-0922V

13. Amy Mehl, Memphis, Tennessee, Court of Federal Claims No: 17-0923V

14. Jennifer Stracick on behalf of H.S., St. Petersburg, Florida, Court of Federal Claims No: 17-0924V

15. Rebecca Curl, Winder, Georgia, Court of Federal Claims No: 17-0925V

16. Martin McGrail and Amy McGrail on behalf of S.M., Neptune, New Jersey, Court of Federal Claims No: 17-0926V

17. Elizabeth Evans, New York, New York, Court of Federal Claims No: 17-0929V

18. Arthur M. Flowers, III, West Columbia, South Carolina, Court of Federal Claims No: 17-0930V

19. Donna Ducey, Colleyville, Texas, Court of Federal Claims No: 17-0933V

20. Mary Orloski, Lewiston, Maine, Court of Federal Claims No: 17-0936V

21. Yvonne Simpson, Washington, District of Columbia, Court of Federal Claims No: 17-0944V

22. Leslie Questel on behalf of J.M., Big Bear, California, Court of Federal Claims No: 17-0946V

23. Erwin Casazza, Springfield, New Jersey, Court of Federal Claims No: 17-0947V

24. Tracie Johanek, Washington, District of Columbia, Court of Federal Claims No: 17-0948V

25. Kimberly Holway, Seattle, Washington, Court of Federal Claims No: 17-0949V

26. Livania Zavala, M.D. and Nelson J. Spinetti, M.D. on behalf of A.S., Edinburg, Texas, Court of Federal Claims No: 17-0951V

27. Fred A. Stover, Spring Mills, Pennsylvania, Court of Federal Claims No: 17-0952V

28. Justin M. Gillespie, Waupun, Wisconsin, Court of Federal Claims No: 17-0953V

29. Kevin McGuinness, Dade City, Florida, Court of Federal Claims No: 17-0954V

30. Kathleen Peddycord Wilson, Raleigh, North Carolina, Court of Federal Claims No: 17-0955V

31. Jamie Gardner, Camp Hill, Pennsylvania, Court of Federal Claims No: 17-0959V

32. Sharifah Wilson, Philadelphia, Pennsylvania, Court of Federal Claims No: 17-0960V

33. William Brown, Vienna, Virginia, Court of Federal Claims No: 17-0961V

34. Karen Adams, Washington, District of Columbia, Court of Federal Claims No: 17-0963V

35. Stephen E. Antisdel, Buchanan, Michigan, Court of Federal Claims No: 17-0964V

36. Jennifer Gregorino, Chattanooga, Tennessee, Court of Federal Claims No: 17-0965V

37. Rowena Adcox, Bowling Green, Kentucky, Court of Federal Claims No: 17-0966V

38. Lisa Workman, Washington, District of Columbia, Court of Federal Claims No: 17-0967V

39. Mary Jane De La Pena, Sacramento, California, Court of Federal Claims No: 17-0971V

40. Mary Duncan, Washington, District of Columbia, Court of Federal Claims No: 17-0972V

41. Cindy Gilliam, Washington, District of Columbia, Court of Federal Claims No: 17-0974V

42. Jeffrey Braden, St. Louis, Missouri, Court of Federal Claims No: 17-0975V

43. Janice Condara, Sugar Land, Texas, Court of Federal Claims No: 17-0977V

44. George Kennedy, Austin, Texas, Court of Federal Claims No: 17-0978V

45. Daphne Lattimer, Groveport, Ohio, Court of Federal Claims No: 17-0980V

46. Linda Harris, Washington, District of Columbia, Court of Federal Claims No: 17-0981V

47. Kent Kemmerer, Willoughby, Ohio, Court of Federal Claims No: 17-0982V

48. Casey Humphreys on behalf of E.H., Jasper, Arkansas, Court of Federal Claims No: 17-0983V

49. Deborah Langer, Dallas, Texas, Court of Federal Claims No: 17-0984V

50. Allison Menard, Baton Rouge, Louisiana, Court of Federal Claims No: 17-0985V

51. William Nischbach, Washington, District of Columbia, Court of Federal Claims No: 17-0986V

52. Tzipora Lefkowitz on behalf of M.L., New Square, New York, Court of Federal Claims No: 17-0987V

53. Sara Torres-Ruiz, Palmdale, California, Court of Federal Claims No: 17-0988V

54. Jason Quirino, Boston, Massachusetts, Court of Federal Claims No: 17-0989V

55. Barbara Stoliker, Ventura, California, Court of Federal Claims No: 17-0990V

56. Natalie Ben-Shoshan, Dallas, Texas, Court of Federal Claims No: 17-0991V

57. Patricia Pendergrass, Washington, District of Columbia, Court of Federal Claims No: 17-0992V

58. Jamie Miller, Baltimore, Maryland, Court of Federal Claims No: 17-0993V

59. Regina Stenberg, Washington, District of Columbia, Court of Federal Claims No: 17-0994V

60. Cheri Lang, Washington, District of Columbia, Court of Federal Claims No: 17-0995V

61. Cheryl Conkle, Boston, Massachusetts, Court of Federal Claims No: 17-1001V

62. Angela Dieter, Mount Joy, Pennsylvania, Court of Federal Claims No: 17-1002V

63. Romana Estes, Boston, Massachusetts, Court of Federal Claims No: 17-1003V

64. Anne Knudson, Phillips, Wisconsin, Court of Federal Claims No: 17-1004V

65. Miguel Leal, Jr., Wyoming, Michigan, Court of Federal Claims No: 17-1008V

66. Kimberly Settle, Thomasville, North Carolina, Court of Federal Claims No: 17-1009V

67. Sapna Kadakia, Washington, District of Columbia, Court of Federal Claims No: 17-1011V

68. Ricky Buras, Hattiesburg, Mississippi, Court of Federal Claims No: 17-1012V

69. Ellisa Morine, Chicago, Illinois, Court of Federal Claims No: 17-1013V

70. Margaret Rogers, Dresher, Pennsylvania, Court of Federal Claims No: 17-1014V

71. Michael Anderson, Dresher, Pennsylvania, Court of Federal Claims No: 17-1017V

72. Robert Wechsler, Dresher, Pennsylvania, Court of Federal Claims No: 17-1018V

73. Geraldine Petrocelli, Monroe, New York, Court of Federal Claims No: 17-1019V

74. Kevin McKenna, Rochester Hills, Michigan, Court of Federal Claims No: 17-1021V

75. Albert Parsons, Wartburg, Tennessee, Court of Federal Claims No: 17-1022V

76. Cynthia Hackney, San Antonio, Texas, Court of Federal Claims No: 17-1027V

77. Barbara Sakovits, Dresher, Pennsylvania, Court of Federal Claims No: 17-1028V

78. Sheryl Attig, Greenville, South Carolina, Court of Federal Claims No: 17-1029V

79. Patricia Anton, Dresher, Pennsylvania, Court of Federal Claims No: 17-1031V

80. Tasha Lee and Jose Botello on behalf of A.B., Beverly Hills, California, Court of Federal Claims No: 17-1032V

[FR Doc. 2017-18567 Filed 8-31-17; 8:45 am]

BILLING CODE 4165-15-P